DEPARTMENT OF ENERGY

Federal Energy Regulatory Commission

[Project No. 14276-002]

FFP Project 92, LLC; Notice of Application Tendered for Filing With the Commission and Establishing Procedural Schedule for Licensing and Deadline for Submission of Final Amendments

Take notice that the following hydroelectric application has been filed with the Commission and is available for public inspection.

a. Type of Application: Original Major License.

b. Project No.: 14276-002.

c. Date Filed: April 16, 2015.

d. Applicant: FFP Project 92, LLC.

e. Name of Project: Kentucky River Lock and Dam No. 11 Hydroelectric Project.

f. Location: The proposed project would be located on the Kentucky River in Estill and Madison Counties, Kentucky, at the existing Kentucky River Lock and Dam No. 11 which is owned by the Commonwealth of Kentucky and operated by the Kentucky River Authority. The project would not affect federal land.

g. Filed Pursuant to: 18 CFR part 5 of the Commission's regulations and Hydropower Regulatory Efficiency Act of 2013.

h. Applicant Contact: Elvir Mujanovic, Vice President of Finance, Rye Development, LLC, 745 Atlantic Avenue, 8th floor, Boston, MA 02111; Telephone (781) 856-2030; elvir@ryedevelopment.com.

i. FERC Contact: Sarah Salazar, (202) 502-6863 or sarah.salazar@ferc.gov.

j. This application is not ready for environmental analysis at this time.

k. Project Description: The proposed project would be located at the Commonwealth of Kentucky's existing Kentucky River Lock and Dam No. 11, which was originally constructed from 1904 to 1906 by the U.S. Corps of Engineers for the purpose of transportation. There is a single lock chamber with a total length of 148 feet and width of 52 feet on the south end of the dam. However, a concrete bulkhead and miter gates were installed in front of the lock structure and it is no longer being used for navigational purposes. The Kentucky River Authority currently operates the dam to maintain the upriver channel depth and an impoundment to withdraw water for municipal drinking water purposes. The impoundment also serves the purposes of providing opportunities for recreation and habitat for fish and wildlife.

The proposed project would be operated in a run-of-river mode. The proposed project would include: (1) The existing 579-acre impoundment, with a normal pool elevation of 585.60 feet North American Vertical Datum of 1988; (2) the existing 208-foot-long, 35-foot-high fixed crest dam; (3) a new 3.5-foot-high adjustable crest gate attached to the top of the dam that would be used to maintain the water surface elevation of the impoundment during project operations (i.e., when inflow would be diverted from the spillway to the proposed turbines); (4) a new 275-foot-long, 75-foot-wide reinforced concrete intake channel equipped with trashracks with 3-inch bar spacing; (5) a new 140-foot-long, 64.5-foot-wide powerhouse built within the existing lock structure, with two horizontal Pit Kaplan turbine generator units each rated at 2.5 megawatts (MW) for a total installed capacity of 5 MW; (6) a new 190-foot-long, 78-foot-wide tailrace; (7) a new 40-foot-long, 40-foot-wide substation; (8) a new approximately 4.5-mile-long, 69-kilovolt transmission line extending from the new substation at the powerhouse to an existing substation located near Waco, Kentucky; and (9) appurtenant facilities. The proposed project would generate about 18,500 megawatt-hours annually, which would be sold to a local utility.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | July 2015
Filing of recommendations, preliminary terms and conditions, and fishway prescriptions | September 2015
Commission issues Environmental Assessment (EA) | December 2015
Comments on EA, modified terms and conditions | January 2016

o. Final amendments to the application must be filed with the Commission no later than 30 days from the issuance date of the notice of ready for environmental analysis.

Dated: May 1, 2015.
Kimberly D. Bose,
Secretary.

[FR Doc. 2015-10975 Filed 5-6-15; 8:45 am]

BILLING CODE 6717-01-P